DEPARTMENT OF COMMERCE

International Trade Administration

[A-489-805]

Certain Pasta from Turkey: Notice of Initiation of New Shipper Antidumping Duty Review

AGENCY: Import Administration, International Trade Administration, Department of Commerce.

SUMMARY: The Department of Commerce (“the Department”) has received a request for new shipper review of the antidumping duty order on certain pasta from Turkey. In accordance with our regulations, we are initiating this new shipper review.

EFFECTIVE DATE: February 23, 2000.

FOR FURTHER INFORMATION CONTACT: John Brinkmann or Cindy Robinson at (202) 482-4126 or 482-3797, respectively; AD/CVD Enforcement, Office VI, Group II, Import Administration, International Trade Administration, U.S. Department of Commerce, 14th Street and Constitution Avenue, N.W., Washington, D.C. 20230.

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations refer to the regulations codified at 19 CFR part 351 (1999).

SUPPLEMENTARY INFORMATION:

Background

The Department has received a request from a pasta producer and its affiliated exporter in Turkey, Beslen Makarna Gida Sanayi ve Ticaret A.S., and Beslen Pazariarma Gida Sanayi ve Ticaret A.S., respectively (collectively “Beslen”), to conduct a new shipper review of the antidumping duty order on certain pasta from Turkey, issued July 24, 1996 (61 FR 38545). This request was made pursuant to section 751(a)(2)(B) of the Act and 19 CFR 351.214(b).

Initiation of Review

Pursuant to 19 CFR 351.214(b), in its request of January 27, 2000, Beslen certified that it did not export the subject merchandise to the United States during the period of investigation (“POI”) (May 1, 1994 through April 30, 1995) and that it is not now, and never has been affiliated with any exporter or producer who exported the subject merchandise to the United States during the POI. Beslen submitted documentation establishing the date on which its merchandise was first entered for consumption in the United States, the volume of that first shipment and the date of its first sale to an unaffiliated customer in the United States.

In accordance with section 751(a)(2)(B) of the Act and section 351.214(d) of the Department's regulations, we are initiating a new shipper review of the antidumping duty order on certain pasta from Turkey. In accordance with 19 CFR 351.214(h)(i), we intend to issue the preliminary results of this review not later than 180 days from the date of publication of this notice. The standard period of review in a new shipper review initiated in the month immediately following the semiannual anniversary month is the six-month period immediately preceding the semiannual anniversary month.

Antidumping duty proceeding | Period to be reviewed
Turkey: Certain Pasta, A-489-805: Beslen Makarna Gida Sanayi ve Ticaret A.S. | 07/01/99-12/31/99

Concurrent with publication of this notice, and in accordance with 19 CFR 351.214(e), we will instruct the Customs Service to allow, at the option of the importer, the posting of a bond or security in lieu of a cash deposit for each entry of the merchandise exported by the company listed above, until the completion of the review.

Interested parties may submit applications for disclosure under administrative protective order in accordance with 19 CFR 351.305.

This initiation notice is in accordance with section 751(a) of the Act (19 U.S.C. 1675(a)) and 19 CFR 351.214.

Dated: February 11, 2000.
Holly A. Kuga,
Acting Deputy Assistant Secretary for Import Administration, Group II.

[FR Doc. 00-4251 Filed 2-22-00; 8:45 am]

BILLING CODE 3510-DS-P